DEPARTMENT OF COMMERCE

National Oceanic and Atmospheric Administration

[RTID 0648-XC912]

Caribbean Fishery Management Council; Public Meetings

AGENCY: National Marine Fisheries Service (NMFS), National Oceanic and Atmospheric Administration (NOAA), Commerce.

ACTION: Notice of joint hybrid public meeting.

SUMMARY: The Caribbean Fishery Management Council's (Council) Scientific and Statistic Committee (SSC) and the Ecosystem-Based Fishery Management Technical Advisory Panel (EBFM TAP) will hold a two-day joint hybrid meeting.

DATES: The two-day joint hybrid meeting will be held on Monday, May 1, 2023, from 1 p.m. to 5 p.m., Atlantic Standard Time (AST) and Tuesday, May 2, 2023, from 9 a.m. to 5 p.m. (AST).

ADDRESSES: The joint hybrid meeting will be held at Courtyard Isla Verde Beach Resort, 7012 Boca de Cangrejos Avenue, Carolina, Puerto Rico.

You may join the EBFM TAB joint hybrid meeting via Zoom from a computer, tablet or smartphone by entering the following address: https://us02web.zoom.us/j/81971396940?pwd=ZjA0cDNpeFNQOFJ4ZlV2eDNuQmpydz09

Meeting ID: 819 7139 6940.

Passcode: 295041.

One tap mobile:

+17879451488,,81971396940#,,,,*295041# Puerto Rico

+17879667727,,81971396940#,,,,*295041# Puerto Rico

Dial by your location:

+1 787 945 1488 Puerto Rico

+1 787 966 7727 Puerto Rico

+1 939 945 0244 Puerto Rico

+1 305 224 1968 U.S.

+1 309 205 3325 U.S.

+1 301 715 8592 U.S. (Washington, D.C.)

Meeting ID: 819 7139 6940.

Passcode: 295041.

Find your local number: https://us02web.zoom.us/u/kejhDuUaUC.

In case of problems with ZOOM please join the meeting via GoToMeeting:

Please join the meeting from your computer, tablet or smartphone: https://meet.goto.com/715099885.

You can also dial in using your phone. (For supported devices, tap a one-touch number below to join instantly.)

United States: +1 (312) 757-3121

—One-touch: tel: +13127573121,,715099885#

Access Code: 715-099-885

Join from a video-conferencing room or system.

Dial in or type: 67.217.95.2 or inroomlink.goto.com.

Meeting ID: 715 099 885.

Or dial directly: 715099885@67.217.95.2 or 67.217.95.2##715099885.

Get the app now and be ready when your first meeting starts: https://meet.goto.com/install.

FOR FURTHER INFORMATION CONTACT: Liajay Rivera-Garcia, Caribbean Fishery Management Council, 270 Muñoz Rivera Avenue, Suite 401, San Juan, Puerto Rico 00918-1903, telephone: (787) 766-5926.

SUPPLEMENTARY INFORMATION: The following items included in the tentative agenda will be discussed:

May 1, 2023

1 p.m.-5 p.m.

—Roll Call

—Adoption of Agenda

—Approval of Verbatim Transcriptions (SSC and TAP)

—EBFM TAP Chair Introduction—Sennai Habtes

—SSC Chair Introduction—Vance Vicente

—New Fishery Ecosystem Plan (FEP) Draft Outline—Review, Discussion, Edits and Approval—Orian Tzadik

—Introduction and Explanation of Technical Writing Consultants for FEP Development—Sennai Habtes

—Overview of FEP Development Working Groups—Review Priorities & Objectives, Update and Identify New Membership, Discuss Process for Developing Framework and Content of FEP for Technical Writers—Sennai Habtes

—Other Business

May 2, 2023

9 a.m.-9:30 a.m.

—Roll Call

—Overview of Progress to Date—Sennai Habtes

9:30 a.m.-10:30 a.m.

—Using Ecosystem Information in the Stock Assessment and Advice Process—Sarah Gaichas

10:30 a.m.-10:40 a.m.

—Break

10:40 a.m.-11:10 a.m.

—Progress Towards Informing an Ecosystem-Based Approach for Fisheries Management in the Caribbean—Juan J. Cruz-Motta

11:10 a.m.-12 p.m.

—Ecosystem Status Report: Ecosystem Indicators—Adyan Rios, Southeast Fishery Science Center (SEFSC)

—Risk Assessment Update—Tauna Rankin, NOAA Fisheries Office of Habitat Conservation

12 p.m.-1 p.m.

—Lunch Break

1 p.m.-2 p.m.

—Island-Based Fishery Management Plans Update—María López-Mercer, Sarah Stephenson, Southeast Regional Office (SERO)

—SEAMAP Caribbean Gold Copy Update—Juan J. Cruz-Motta

—General Public Use and Accessibility of SEAMAP Caribbean Gold Copy—Martha Prada/Juan J. Cruz-Motta

2 p.m.-3 p.m.

—Caribbean Fishery Management Council Geographic Information System (GIS) Platform Update—Martha Prada

3 p.m.-3:15 p.m.

—Break

3:15 p.m.-5 p.m.

—Community Social Vulnerability Indicators Efforts in the Caribbean—Tarsila Seara

—SEFSC Data Triage Work—Kevin McCarthy

—Other Business

The order of business may be adjusted as necessary to accommodate the completion of agenda items. The meeting will begin on May 1, 2023, at 1 p.m. AST, and will end on May 2, 2023, at 5 p.m. AST. Other than the start time, interested parties should be aware that discussions may start earlier or later than indicated, at the discretion of the Chair.

Special Accommodations

For any additional information, please contact Liajay Rivera-Garcia, Caribbean Fishery Management Council, 270 Muñoz Rivera Avenue, Suite 401, San Juan, Puerto Rico, 00918-1903, telephone: (787) 766-5926.

Authority: 16 U.S.C. 1801 et seq.

Dated: April 11, 2023.
Rey Israel Marquez,
Acting Deputy Director, Office of Sustainable Fisheries, National Marine Fisheries Service.

[FR Doc. 2023-07897 Filed 4-13-23; 8:45 am]

BILLING CODE 3510-22-P